DEPARTMENT OF HEALTH AND HUMAN SERVICES

Substance Abuse and Mental Health Services Administration

Fiscal Year (FY) 2025 Notice of Supplemental Funding Opportunity

AGENCY: Substance Abuse and Mental Health Services Administration (SAMHSA), Department of Health and Human Services (HHS).

ACTION: Notice of intent to award supplemental funding.

SUMMARY: This notice is to inform the public that Substance Abuse and Mental Health Services Administration (SAMHSA) is supporting administrative supplements in scope of the parent award for the one (1) eligible grant recipient funded under the FY 2020 Homeless and Housing Resource Center, Notice of Funding Opportunity (NOFO) SM-20-009. The total available funding is $563,703. This supplemental funding will be used to continue to provide technical assistance to the general public and persons working with individuals who are at risk for, or are experiencing, homelessness and have serious mental illness (SMI), serious emotional disturbance (SED), substance use disorders (SUD), and/or co-occurring substance use and mental disorders (COD). The project period end date will be August 30, 2026.

FOR FURTHER INFORMATION CONTACT: Doug Slothouber, Supervisory Public Health Advisor, Substance Abuse and Mental Health Services Administration (SAMHSA), Center for Mental Health Services (CMHS), 5600 Fishers Lane, Rockville, MD 20857, telephone 240-276-1453, email doug.slothouber@samhsa.hhs.gov.

SUPPLEMENTARY INFORMATION:

Funding Opportunity Title: FY 2020 Homeless and Housing Resource Center (HHRC), SM-20-009.

Assistance Listing Number: 93.243.

Authority: Section 520 of the Public Health Service Act.

Justification: Eligibility for this supplemental funding is limited to the current recipient. This grant recipient has the capacity and expertise to provide technical assistance to provide technical assistance to the general public and persons working with individuals who are at risk for, or are experiencing, homelessness and have SMI, SED, SUD, and/or COD.

This is not a formal request for application. Assistance will only be provided to the one Homeless and Housing Resource recipient funded in FY 2020, under the Notice of Funding Opportunity (NOFO) SM-20-009.

Dated: September 17, 2025.
Ann Ferrero,
Public Health Analyst.

[FR Doc. 2025-18210 Filed 9-18-25; 8:45 am]

BILLING CODE 4162-20-P